DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1984.

The following request has been submitted to the Office of Management and Budget for review under the Paperwork Reduction Act of 1995:

Proposed Project: Uncompensated Services Assurance Report (OMB No. 0915-0077)—[Revision]

Under the Hill-Burton Act, the Government provides grants and loans for construction or renovation of health care facilities. As a condition of receiving this construction assistance, facilities are required to provide services to persons unable to pay. A condition of receiving this assistance requires facilities to provide assurances periodically that the required level of uncompensated care is being provided, and that certain notification and record keeping procedures are being followed. These standard requirements are referred to as the uncompensated services assurance.

The annual estimate of burden is as follows:

Estimate of Information Collection Burden
Instrument | Number of respondents | Responses per respondent | Total responses | Hours per response | Total burden hours
Disclosure Burden (42 CFR)
Published Notices (124.504(c)) | 63 | 1 | 63 | 0.75 | 47.25
Individual Notices (124.504(c)) | 63 | 1 | 63 | 43.60 | 2,746.80
Determinations of Eligibility (124.507) | 63 | 99 | 6,237 | 0.75 | 4,677.75
Subtotal Disclosure Burden |  |  |  |  | 7,471.80
Reporting
Uncompensated Services Report—HRSA-710 Form (124.509(a)) | 10 | 1 | 10 | 11.00 | 110.00
Application for Compliance Alternatives
Public Facilities (124.513) | 4 | 1 | 4 | 6.00 | 24.00
Small Obligation Facilities (124.514(c)) | 0 |  |  |  |
Charitable Facilities (124.516(c)) | 0 |  |  |  |
Annual Certification for Compliance Alternatives
Public Facilities (124.509(b)) | 32 | 1 | 32 | 0.50 | 16.00
Charitable Facilities (124.509(b)) | 13 | 1 | 13 | 0.50 | 6.50
Small Obligation Facilities (124.509(c)) | 0 |  | 0 |  |
Complaint Information (124.511(a))
Individuals | 10 | 1 | 10 | 0.25 | 2.50
Facilities | 10 | 1 | 10 | 0.50 | 5.00
Subtotal Reporting Burden |  |  |  |  | 164.00

Recordkeeping | Number of record keepers | Hours per year | Total burden hours
Recordkeeping
Non-alternative Facilities (124.510(a)) | 33 | 50 | 1,650.00
Unrestricted Availability (124.510(b)) | 30 | 50 | 1,500.00
Subtotal Recordkeeping Burden |  |  | 3,150.00

Email comments to paperwork@hrsa.gov or mail the HRSA Reports Clearance Officer, Room 10-29, Parklawn Building, 5600 Fishers Lane, Rockville, MD 20857. Written comments should be received within 60 days of this notice.

Dated: April 20, 2012.
Reva Harris,
Acting Director, Division of Policy and Information Coordination.

[FR Doc. 2012-10031 Filed 4-25-12; 8:45 am]

BILLING CODE 4165-15-P